DEPARTMENT OF HEALTH AND HUMAN SERVICES'

Administration for Children and Families

[OMB No. 0970-0307]

Submission for OMB Review; State Court Improvement Program

AGENCY: Children's Bureau, Administration for Children and Families, HHS.

ACTION: Request for Public Comment.

SUMMARY: The Administration for Children and Families (ACF) is requesting a 3-year extension of the Court Improvement Program (CIP)Program Strategic Plan Template and Annual CIP Self-Assessment (Office of Management and Budget (OMB) #0970-0307, expiration November 30, 2022). There are minimal updates to the form to reflect new legislation as well as to support technical assistance. The collections are necessary to continue operating the program in compliance with congressional reauthorization.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The proposed collection is a continuation of the current collection and comprised of two components: An application including a strategic plan and annual self-assessment. The self-assessment reflects what the state has done in the prior year focusing on its progress and status within the change management cycle. The strategic plan looks forward to those interventions and actions the state plans to undertake to address needs or buttress strengths they have discovered in their assessment activities. Additions from the prior approval include infrastructural questions around the Child and Family Services Reviews regarding efforts to engage legal and judicial staff and collaborate with the child welfare agency. They also include overall court structural questions which are responsive to requests from grantees to facilitate peer connections of similarly situated states. The next application will be due June 30, 2023.

Respondents: We anticipate the highest state court of every state, the District of Columbia, Puerto Rico, and the U.S. Virgin Islands to respond. All 53 jurisdictions currently participate in the program.

Annual Burden Estimates
Instrument | Total number of respondents | Annual number of responses per respondent | Average burden hours per response | Annual burden hours
Annual Self-Assessment | 53 | 1 | 40 | 2,120
Strategic Plan | 53 | .20* | 52 | 551.20
Estimated Total Annual Burden Hours: |  |  |  | 2,671.20
* The full Strategic Plan is completed every 5 years. In years when the Strategic Plan is not completed, respondents may spend minimal time updating relevant sections of the Strategic Plan. This is accounted for in the estimate for the Annual Self-Assessment.

Authority: 42 U.S.C. 629h.

Mary B. Jones,
ACF/OPRE Certifying Officer.

[FR Doc. 2022-21126 Filed 9-28-22; 8:45 am]

BILLING CODE 4184-29-P